DEPARTMENT OF COMMERCE

International Trade Administration

[C-489-819]

Steel Concrete Reinforcing Bar From the Republic of Turkey: Notice of Partial Rescission of Countervailing Duty Administrative Review, 2014

AGENCY: Enforcement and Compliance, International Trade Administration, Department of Commerce.

DATES: Effective Date: April 22, 2016.

FOR FURTHER INFORMATION CONTACT: Kristen Johnson or Samuel Brummitt, AD/CVD Operations, Office III, Enforcement and Compliance, International Trade Administration, U.S. Department of Commerce, 14th Street and Constitution Avenue NW., Washington, DC 20230; telephone: (202) 482-4793 or (202) 482-7851, respectively.

SUPPLEMENTARY INFORMATION:

Background

On November 3, 2015, the Department of Commerce (the Department) published a notice of opportunity to request an administrative review of the countervailing duty (CVD) order on steel concrete reinforcing bar (rebar) from the Republic of Turkey (Turkey) for the period September 15, 2014, through December 31, 2014.¹ On November 30, 2015, the Department received a letter from the Rebar Trade Action Coalition (RTAC, or Petitioner) ² requesting a review of 18 exporters and/or producers of subject merchandise.³ On January 7, 2016, the Department published a notice of initiation of administrative review for this CVD order.⁴

¹ See Antidumping or Countervailing Duty Order, Finding, or Suspended Investigation; Opportunity to Request Administrative Review, 80 FR 67706 (November 3, 2015).

² Members of RTAC are Nucor Corporation, Gerdau Ameristeel US Inc., Commercial Metals Company, and Byer Steel Corporation.

³ See Letter from Petitioner regarding “Steel Concrete Reinforcing Bar from Turkey: Request for Administrative Review” (November 30, 2015), and Letter from Petitioner regarding “Steel Concrete Reinforcing Bar from Turkey: Clarification of Request for Administrative Review” (December 21, 2015). Additionally, on November 30, 2015, Colakoglu Metalurji A.S. (Colakoglu) and Icdas Celik Enerji Tersane ve Ulasim Sanayi A.S. (Icdas) each filed a request for an administrative review with the Department. See Letter from Colakoglu regarding “Steel Concrete Reinforcing Bar from the Republic of Turkey: Colakoglu's Request for CVD Administrative Review” (November 30, 2015), and Letter from Icdas regarding “Steel Concrete Reinforcing Bar from the Republic of Turkey: Icdas' Request for CVD Administrative Review” (November 30, 2015). Petitioner requested a review of Icdas. Colakoglu was not included in Petitioner's review request. These public documents and all other public documents and public versions of business proprietary documents for this administrative review are on file electronically via Enforcement and Compliance's Antidumping and Countervailing Duty Centralized Electronic Service System (ACCESS).

⁴ See Initiation of Antidumping and Countervailing Duty Administrative Reviews, 81 FR 736 (January 7, 2016) (Initiation Notice).

Between January 13, 2016, and February 8, 2016, the following companies notified the Department that they had no exports, sales, shipments, or entries of subject merchandise to the United States during the period of review (POR): Ege Celik Endustrisi Sanayi ve Ticaret A.S. (Ege Celik), Ekinciler Demir ve Celik Sanayi A.S. (Ekinciler Demir), Mettech Metalurji Madencilik Muhendislik Uretim Danismanlik ve Ticaret Limited Sirketi (Mettech), Asil Celik Sanayi ve Ticaret A.S. (Asil Celik),⁵ Duferco Celik Ticaret Limited (Duferco Celik), and DufEnergy Trading SA (formerly known as Duferco Investment Services SA) (DufEnergy).⁶ For each company, we issued a “no shipments inquiry” message to U.S. Customs and Border Protection (CBP).⁷ We did not receive any response from CBP within the customary ten days regarding any suspended entries from these particular companies during the POR.

⁵ Also known as Asil Celik Sanayi ve Ticaret A S and/or Asil Celik Sanayi ve Ticaret AS. See Initiation Notice, 81 FR at 740.

⁶ See Letter from Ege Celik regarding “Certain Steel Concrete Reinforcing Bar from the Republic of Turkey (C-489-819): CVD Administrative Review” (January 13, 2016); Letter from Ekinciler Demir regarding “Certain Steel Concrete Reinforcing Bar from the Republic of Turkey (C-489-819): CVD Administrative Review” (January 13, 2016; Letter from Mettech regarding “Federal Register/Vol. 81 No. 4/Thursday, January 7, 2016/Notices” (January 14, 2016); Letter from Asil Celik regarding “Certain Steel Concrete Reinforcing Bar from the Republic of Turkey (C-489-819): CVD Administrative Review” (January 18, 2016); Letter from Duferco Celik regarding “Steel Concrete Reinforcing Bar from the Republic of Turkey: No Shipments Letter” (February 5, 2016); and Letter from DufEnergy regarding “Steel Concrete Reinforcing Bar from the Republic of Turkey: No Shipments Letter” (February 8, 2016).

⁷ CBP posted the messages on February 9, and February 11, 2016. See message numbers 6060301, 6040302, 6040303, 6040304, 6042303, and 6042304 available at http://addcvd.cbp.gov and also ACCESS.

On April 6, 2016, Petitioner submitted a timely withdrawal of its request for review of Ege Celik, Ekinciler Demir, Mettech, Asil Celik, Duferco Celik, and DufEnergy.⁸

⁸ See Letter from Petitioner regarding “Steel Concrete Reinforcing Bar from the Republic of Turkey: Withdrawal of Requests for Administrative Review” (April 6, 2016).

Partial Rescission of the 2014 Administrative Review

Pursuant to 19 CFR 351.213(d)(1), the Secretary will rescind an administrative review, in whole or in part, if the parties that requested a review withdraw the request within 90 days of the date of publication of the notice of initiation. The Department published the Initiation Notice for this administrative review on January 7, 2016. Petitioner timely withdrew its request for a review of Ege Celik, Ekinciler Demir, Mettech, Asil Celik, Duferco Celik, and DufEnergy within the 90-day period. No other party requested an administrative review of these particular companies. Therefore, in accordance with 19 CFR 351.213(d)(1), and consistent with our practice,⁹ we are rescinding this review of the CVD order on rebar from Turkey with respect to Ege Celik, Ekinciler Demir, Mettech, Asil Celik, Duferco Celik, and DufEnergy. The administrative review will continue with respect to all other firms for which a review was requested and initiated.

⁹ See, e.g., Certain Lined Paper Products from India: Notice of Partial Rescission of Countervailing Duty Administrative Review; 2014, 81 FR 7082 (February 10, 2016).

Assessment

The Department will instruct U.S. Customs and Border Protection (CBP) to assess countervailing duties on all appropriate entries at a rate equal to the cash deposit of estimated countervailing duties required at the time of entry, or withdrawal from warehouse, for consumption, during the period September 15, 2014, through December 31, 2014, in accordance with 19 CFR 351.212(c)(1)(i).

The Department intends to issue appropriate assessment instructions directly to CBP 15 days after publication of this notice.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return or destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: April 18, 2016.
Christian Marsh,
Deputy Assistant Secretary for Antidumping and Countervailing Duty Operations.

[FR Doc. 2016-09416 Filed 4-21-16; 8:45 am]

BILLING CODE 3510-DS-P